ENVIRONMENTAL PROTECTION AGENCY

[EPA-HQ-OW-2007-0142; FRL-8332-1]

Agency Information Collection Activities; Proposed Collection; Comment Request; See List of ICRs Planned To Be Submitted in Section A

AGENCY: Environmental Protection Agency (EPA).

ACTION: Notice.

SUMMARY: In compliance with the Paperwork Reduction Act (44 U.S.C. 3501 et seq.), this notice announces that EPA is planning to submit a request to renew three existing Information Collection Requests (ICR) to the Office of Management and Budget (OMB). Before submitting the ICRs to OMB for review and approval, EPA is soliciting comments on specific aspects of the information collections as described at the beginning of SUPPLEMENTARY INFORMATION.

DATES: Comments must be submitted on or before August 27, 2007.

ADDRESSES: Submit your comments, identified by Docket ID No. EPA-HQ-OW-2007-0142, by one of the following methods:

• http://www.regulations.gov: Follow the online instructions for submitting comments.

• E-mail: ow-docket@epa.gov (Identify Docket ID No. EPA-HQ-OW-2007-0142 in the subject line).

• Mail: Water Docket, Environmental Protection Agency, Mailcode: 4203M, 1200 Pennsylvania Ave., NW., Washington, DC 20460. Please include a total of three copies.

• Hand Delivery: EPA Docket Center, EPA West, Room 3334, 1301 Constitution Avenue, NW., Washington, DC 20460. Such deliveries are only accepted during the Docket's normal hours of operation, and special arrangements should be made for deliveries of boxed information.

Instructions: Direct your comments identified by the Docket ID No. EPA-HQ-OW-2007-0142. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Amelia Letnes, State and Regional Branch, Water Permits Division, OWM Mail Code: 4203M, Environmental Protection Agency, 1200 Pennsylvania Ave., NW., Washington, DC 20460; telephone number: (202) 564-5627; e-mail address: letnes.amelia@epa.gov.

SUPPLEMENTARY INFORMATION:

For All ICRS

An Agency may not conduct or sponsor, and a person is not required to respond to collection information unless it displays a currently valid OMB control number. The OMB control numbers for EPA's regulations are displayed in 40 CFR part 9.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

How Can I Access the Docket and/or Submit Comments?

EPA has established a public docket for these ICRs under Docket ID No. EPA-HQ-OW-2007-0142, which is available for online viewing at http://www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of technical information/data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

A. List of ICRS Planned To Be Submitted

(1) Concentrated Aquatic Animal Production Point Source Category Effluent Guidelines Reporting and Recordkeeping Requirements, EPA ICR Number 2087.03, OMB Control Number 2040-0258, expiration date 09/30/2007.

(2) National Pollutant Discharge Elimination System (NPDES)/Compliance Assessment/Certification Information, EPA ICR Number 1427.08, OMB Control Number 2040-0110, expiration date 09/30/2007.

(3) National Pretreatment Program, EPA ICR Number 0002.13, OMB Control Number 2040-0009, expiration date 09/30/2007.

B. Individual ICRS

(1) Concentrated Aquatic Animal Production Point Source Category Effluent Guidelines Reporting and Recordkeeping Requirements, EPA ICR Number 2087.03, OMB Control Number 2040-0258, expiration date 09/30/2007.

Affected Entities: Entities potentially affected by this action are a subset of facilities engaged in aquatic animal production defined to 40 CFR part 451.

Abstract: This ICR requests OMB renewal of the ICR for the: “Effluent Limitations Guidelines and Standards for Concentrated Aquatic Animal Production (CAAP) Point Source Category” (Effluent Guidelines). The rule establishes specific reporting requirements for a segment of CAAP facilities through NPDES permits. The rule covers facilities which are defined as CAAP facilities (see 40 CFR 122.24 and 40 CFR part 122 Appendix C) and produce at least 100,000 pounds per year in flow through, recirculating and net pen systems.

The rule includes special reporting and recordkeeping requirements which are the subject of this ICR. CAAP facility owners or operators are also required to file reports with the permitting authority when drugs with special approvals are applied to the production units or a failure in the structural integrity occurs in the aquatic animal containment system.

When CAAP facilities apply either an Investigational New Animal Drug (INAD) or a drug that has been prescribed extra-label by a veterinarian to treat the aquatic animals at their facility, the owner or operator must report this use to the permitting authority. In addition, the owner or operator of a CAAP facility must notify the permitting authority upon agreeing to participate in an INAD study.

Whenever a structural failure occurs in the aquatic animal containment system, the owner or operator must report this to the permitting authority. For the purposes of this requirement, the aquatic animal containment system is defined as the unit(s) that contain(s) the aquatic animals and in which their culture takes place, as well as the wastewater handling and treatment units associated with aquatic animal production.

CAAP facilities subject to this regulation are also required to develop and implement a Best Management Practices (BMP) plan that ensures that the regulatory requirements will be met. Upon completion of this BMP plan, the owner or operator must certify to the permitting authority that the plan has been developed.

CAAP facilities are also expected to keep records of the feed inputs along with an estimate of the number and weight of the animals being raised. These records are to be used to calculate the feed conversion ratios for the facility. Records must also be kept documenting the frequency of facility inspections, maintenance and repairs, along with the cleaning of the rearing units at flow through and recirculating facilities or changing the nets at net pen facilities.

This information collection may contain CBI, especially the reporting requirements associated with investigational drug use. If this is the case, the respondent may request that such information be treated as confidential. All confidential data will be handled in accordance with 40 CFR 122.7, 40 CFR part 2 and EPA's Security Manual. However, Clean Water Act (CWA) sec. 308(b) specifically states that effluent data may not be treated as confidential.

Burden Statement: The annual public reporting and recordkeeping burden for this collection of information is estimated to average 180 hours per respondent per year, or 60 hours per response.

Estimated total number of potential respondents: 245 (200 facilities and 45 States).

Frequency of response: Once every five years, on occasion, on-going.

Estimated total average number of responses for each respondent: Three.

Estimated total annual burden hours: 44,196 hours.

Estimated total annual costs: $971,500. This includes an estimated burden cost of $971,500 and an estimated cost of $0 for capital investment or maintenance and operational costs.

Change in Burden: There is a decrease of 4 hours in the total estimated respondent burden compared with that identified in the ICR currently approved by OMB. This decrease reflects EPA's corrections to the 2004 ICR and is not the result of changes to the requirements covered by this ICR.

(2) National Pollutant Discharge Elimination System (NPDES)/Compliance Assessment/Certification Information, EPA ICR Number 1427.08, OMB Control Number 2040-0110, expiration date 09/30/2007.

Affected Entities: Entities potentially affected by this action are most facilities required to have NPDES permit coverage, including but not limited to publicly owned treatment works (POTWs), privately owned treatment works (PrOTWs), manufacturing and commercial dischargers, mining operations, and Concentrated Animal Feeding Operations (CAFOs).

Abstract: The purpose of this ICR is to calculate the burden and costs associated with the data requirements necessary for a permitting authority (either an authorized State or the Environmental Protection Agency (EPA)) to determine whether an existing NPDES or sewage sludge permittee is in compliance with the conditions of its permit.

A permitting authority collects information necessary to determine a permittee's compliance with specific permit requirements during the effective term of a given permit. Compliance assessment reporting requirements include routine submittals (e.g., annual certifications and reports submitted when a compliance schedule milestone is reached) and non-routine submittals (e.g., required when certain conditions occur, such as an unanticipated bypass). NPDES staff may use this information to determine if follow-up activities are necessary.

This ICR includes burden hours and costs associated with noncompliance reports for Concentrated Animal Feeding Operations (CAFOs) not accounted for in the NPDES Regulation and Effluent Limitation Guidelines and Standards for Concentrated Animal Feeding Operations ICR (EPA ICR No. 1989.04; OMB No. 2040-0250).

Five additional effluent limitations guidelines development ICRs are set to expire in the next three years prior to the next renewal of this Compliance Assessment/Certification ICR. The burden for direct dischargers associated with those five ICRs has been incorporated into the Compliance Assessment/Certification ICR as part of this renewal process. The five ICRs include:

1. Milestone Plans for the Bleached Papergrade Kraft and Soda Subcategory of the Pulp, Paper, and Paperboard Point Source Category (40 CFR part 430), EPA ICR No. 1877.02, OMB Control No. 2040-0202;

2. Best Management Practices (BMPs) for Bleached Papergrade Kraft and Soda Subcategory and the Papergrade Kraft Sulfite Subcategory of the Pulp, Paper, and Paperboard Point Source Category (40 CFR part 430), EPA ICR No. 1829.02, OMB Control No. 2040-0207;

3. Baseline Standards and Best Management Practices for the Coal Mining Point Source Category (40 CFR part 434)—Coal Remining Subcategory and Western Alkaline Coal Mining Subcategory, EPA ICR No. 1944.02, OMB Control No. 2040-0239;

4. Voluntary Certification in Lieu of Chloroform Minimum Monitoring Requirements for Direct and Indirect Discharging Mills in the Bleached Papergrade Kraft and Soda Subcategory of the Pulp, Paper and Paperboard Manufacturing Category (40 CFR part 430), EPA ICR No. 2015.01, OMB Control No. 2040-0242; and

5. Minimum Monitoring Requirements for Direct and Indirect Discharging Mills in the Bleached Papergrade Kraft and Soda Subcategory and the Papergrade Sulfite Subcategory of the Pulp, Paper and Paperboard Manufacturing Category (40 CFR part 430), EPA ICR No. 1878.01, OMB Control No. 2040-0243.

Burden Statement: The annual average reporting and recordkeeping burden for this collection of information by facilities responding is estimated to be 4.47 hours per respondent (i.e., an annual average of 2,015,231 hours of burden divided among an anticipated annual average of 450,509 unique facilities). The State reporting and recordkeeping burden is estimated to average 1,117 hours per State respondent (i.e., an annual average of 51,384 hours of burden divided among 46 States).

Estimated total number of potential respondents: 450,555 (450,509 facilities and 46 States).

Frequency of response: Every five years, annual, semiannual, quarterly, monthly, on occasion.

Estimated total average number of responses for each respondent: 2.41 (1.1 for facilities, 637 for States)

Estimated total annual burden hours: 2,066,615 hours.

Estimated total annual costs: $92,351,594. This includes an estimated burden cost of $92,351,594 and an estimated cost of $0 for capital investment or maintenance and operational costs.

Change in Burden: There is an increase of 257,035 hours (14.2%) in the total estimated respondent burden compared with that identified in the ICR currently approved by OMB. This increase is the result of the migration of burden from the five ICRs listed above to this ICR and the increase in the number of expected stormwater construction and other non-stormwater general permittees. It is not the result of changes to the requirements covered by this ICR.

(3) National Pretreatment Program, EPA ICR Number 0002.13, OMB Control Number 2040-0009, expiration date 09/30/2007.

Affected Entities: Various industrial categories, publicly owned treatment works (POTWs), Local and State governments

Abstract: This ICR calculates the burden and costs associated with managing and implementing the National Pretreatment Program as mandated under CWA sections 402(a) and (b) and 307(b). This ICR includes all existing tasks under the National Pretreatment Program, as amended by the EPA's recent Streamlining Rule. It integrates key elements from two existing ICRs whose approvals are due to expire shortly: (1) Information Collection Request for the National Pretreatment Program, OMB Control No.: 2040-0009, EPA ICR No.: 0002.11, June 7, 2005, and (2) Revision of the Information Collection Request for the National Pretreatment Program (Pretreatment Streamlining ICR) (Title 40 of the Code of Federal Regulations [CFR] Part 403), OMB Control No. 2040-0009, EPA ICR No. 0002.12, September 22, 2005.

EPA's Office of Wastewater Management (OWM) in the Office of Water (OW) is responsible for the management of the pretreatment program. The CWA requires EPA to develop national pretreatment standards to control discharges from Industrial Users (IUs) into POTWs. These standards limit the level of certain pollutants allowed in non-domestic wastewater that is discharged to a POTW. EPA administers the pretreatment program through the NPDES permit program. Under the NPDES permit program, EPA may approve State or individual POTW implementation of the pretreatment standards at their respective levels. Data collected from IUs during implementation of the pretreatment program include the mass, frequency, and content of IU discharges and IU schedules for installing pretreatment equipment. Data also include actual or anticipated IU discharges of wastes that violate pretreatment standards, have the potential to cause problems at the POTW, or are considered hazardous under the Resource Conservation and Recovery Act (RCRA). OWM uses the data collected under the pretreatment program to monitor and enforce compliance with the pretreatment regulations, as well as to authorize program administration at the State or Local (POTW) level. States and POTWs applying for approval of their pretreatment programs submit data concerning their legal, procedural, and administrative bases for establishing such programs. This information may include surveys of IUs, local limits for pollutant concentrations, and schedules for completion of major project requirements. IUs and POTWs submit written reports to the approved State or EPA. These data may then be entered into the NPDES databases by the approved State or by EPA.

Four additional effluent limitations guidelines development ICRs are set to expire within the next three years, before the next renewal of this Pretreatment Program ICR. The burden for indirect dischargers associated with those four ICRs has been incorporated into this Pretreatment Program ICR as part of this renewal process. The four ICRs are the following:

1. Pollution Prevention Compliance Alternative; Transportation Equipment Cleaning Point Source Category (40 CFR part 442), EPA ICR No. 2018.02, OMB Control No. 2040-0235.

2. Voluntary Certification in Lieu of Chloroform Minimum Monitoring Requirements for Direct and Indirect Discharging Mills in the Bleached Papergrade Kraft and Soda Subcategory of the Pulp, Paper and Paperboard Manufacturing Category (40 CFR part 430), EPA ICR No. 2015.01, OMB Control No. 2040-0242.

3. Best Management Practices (BMPs) for Bleached Papergrade Kraft and Soda Subcategory and the Papergrade Kraft Sulfite Subcategory of the Pulp, Paper, and Paperboard Point Source Category (40 CFR part 430), EPA ICR No. 1829.02, OMB Control No. 2040-0207.

4. Minimum Monitoring Requirements for Direct and Indirect Discharging Mills in the Bleached Papergrade Kraft and Soda Subcategory and the Papergrade Sulfite Subcategory of the Pulp, Paper and Paperboard Manufacturing Category (40 CFR part 430), EPA ICR No. 1878.01, OMB Control No. 2040-0243.

Burden Statement: The annual public reporting and recordkeeping burden for this collection of information is estimated to average 67.8 hours per respondent per year, or 68 hours per response.

Estimated total number of potential respondents: 24,740 (35 States, 1,512 POTWs and 23,193 industrial users).

Frequency of response: On occasion, semi-annually, annually, and as needed.

Estimated total average number of responses for each respondent: 4.1.

Estimated total annual burden hours: 1,806,020 hours.

Estimated total annual costs: $80,688,312. This includes an estimated burden cost of $80,698,312 and an estimated cost of $10,000 for capital investment or maintenance and operational costs.

Change in Burden: There is a decrease of 142,439 (7.3%) hours in the total estimated respondent burden compared with that identified in the ICR currently approved by OMB. There are burden increases reflected in this ICR due to increases in the estimates of state respondents, number of approved programs, and incorporation of burden from other ICRs. However, the main change in burden is reflected in a decrease in the number of SIUs. EPA revised the estimated number of SIUs and pretreatment programs after extensive consultation with the EPA regions and a thorough examination of PCS data. This resulted in an overall decrease in the burden of this ICR.

Dated: June 22, 2007.
James A. Hanlon,
Director, Office of Wastewater Management.

[FR Doc. E7-12445 Filed 6-26-07; 8:45 am]

BILLING CODE 6560-50-P